DEPARTMENT OF COMMERCE

Foreign-Trade Zones Board

[B-83-2016]

Foreign-Trade Zone (FTZ) 24—Pittston, Pennsylvania, Authorization of Production Activity, Brake Parts Inc (Automotive Parts Kitting), Hazleton, Pennsylvania

On November 30, 2016, Brake Parts Inc submitted a notification of proposed production activity to the FTZ Board for its facility within Subzone 24E, in Hazleton, Pennsylvania.

The notification was processed in accordance with the regulations of the FTZ Board (15 CFR part 400), including notice in the Federal Register inviting public comment (81 FR 88212-88213, December 7, 2016). The FTZ Board has determined that no further review of the activity is warranted at this time. The production activity described in the notification is authorized, subject to the FTZ Act and the FTZ Board's regulations, including Section 400.14.

Dated: March 27, 2016.
Andrew McGilvray,
Executive Secretary.

[FR Doc. 2017-06379 Filed 3-30-17; 8:45 am]

BILLING CODE 3510-DS-P